DEPARTMENT OF JUSTICE

Notice of Lodging of Proposed Consent Decree Under the Clean Water Act

On October 15, 2015, the Department of Justice lodged a proposed Consent Decree with the United States District Court for the District of Rhode Island in the lawsuit entitled United States of America v. Rhode Island Department of Transportation, Civil Action No. CV-15-433-ML-PAS.

In the Complaint filed in this action, the United States, on behalf of the U.S. Environmental Protection Agency, alleges that the defendant Rhode Island Department of Transportation (“RIDOT”) has failed to comply with certain conditions and limitations of the municipal separate storm sewer system (“MS4”) permit applicable to it under the Clean Water Act, 33 U.S.C. 1251, et seq., including by failing to (a) conduct required catchment area assessments and implement storm water pollution controls, including structural controls, to address RIDOT storm water discharges to water-quality impaired waters, (b) develop and implement an adequate program to detect and eliminate illicit discharges into the RIDOT MS4, (c) sweep all RIDOT roads as required by the permit for pollution prevention, and (d) inspect, maintain, and repair catch basins and other components of RIDOT's storm water drainage systems.

The Consent Decree requires RIDOT to (a) develop and implement storm water control plans to address RIDOT's discharges to water-quality impaired waters, including impaired waters both with and without Total Maximum Daily Load determinations, (b) develop and implement an adequate program to detect and eliminate illicit discharges into the RIDOT MS4, (c) implement a street sweeping tracking system and sweep all RIDOT roads as required by the permit, with increased frequency street sweeping required in specified areas, and (d) implement a program to inspect, clean, and, as necessary, repair components of RIDOT's storm water drainage system, including catch basins, manholes, outfalls, and storm water treatment units, and to provide for tracking of the inspection and maintenance work.

The Consent Decree also provides that RIDOT will pay a civil penalty of $315,000 and perform two supplemental environmental projects (“SEPs”) valued, collectively, at $234,600. The SEPs provide for the preservation of two forested parcels of land in watersheds of impaired waterways. The first parcel is approximately 55 acres and is located in Johnston, RI, abutting the Powder Mill Ledges Wildlife Refuge, in the watershed of Assapumpset Brook and the Woonasquatucket River. The other parcel is approximately 25 acres and is located in Lincoln, RI, in the vicinity of Olney Pond in Lincoln Woods State Park, in the watershed of the Moshassuck River.

The publication of this notice opens a period for public comment on the Consent Decree. Comments should be addressed to the Assistant Attorney General, Environment and Natural Resources Division, and should refer to United States of America v. Rhode Island Department of Transportation, D.J. Ref. No. 90-5-1-1-10908. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $33.50 (25 cents per page reproduction cost) payable to the United States Treasury.

Robert E. Maher Jr.,
Assistant Chief, Environmental Enforcement Section, Environment & Natural Resources Division.

[FR Doc. 2015-26593 Filed 10-19-15; 8:45 am]

BILLING CODE 4410-15-P